DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 12, 2008. Address written comments to Statutory Import Programs Staff, Room 2104, U.S. Department of Commerce, Washington, D.C. 20230. Applications may be examined between 8:30 A.M. and 5:00 P.M. at the U.S. Department of Commerce in Room 2104.

Docket Number: 08-010. Applicant: University of Dayton Research Institute, 300 College Park, Dayton, OH 45469-0106. Instrument: Electron Microscope, Model FEI Quanta 600 FEG. Manufacturer: FEI Company, Czech Republic. Intended Use: The instrument is intended to be used for characterization of organic matrix composites. The objective of this research is to develop advanced aerospace composite materials designed for sustained service temperatures between 450F and 600F. Application accepted by Commissioner of Customs: March 25, 2008.

Docket Number: 08-011. Applicant: University of Minnesota Institute of Technology Characterization Facility, 12 Shepherd Labs, 100 Union Street SE, Minneapolis, MN 55455. Instrument: Electron Microscope, Model Tecnai G2 F30 Twin. Manufacturer: FEI Company, Netherlands. Intended Use: The instrument is intended to be used for tomographic 3D imaging of cells, cell organelles and molecular complexes, as well as high-resolution imaging at liquid nitrogen temperatures. Application accepted by Commissioner of Customs: March 27, 2008.

Docket Number: 08-012. Applicant: Alfred E. Mann Foundation for Scientific Research, 25134 Rye Canyon Loop, Suite 200, Santa Clarita, CA 91355. Instrument: Electron Microscope, Model FEI Inspect S. Manufacturer: FEI Company, Czech Republic. Intended Use: The instrument is intended to be used to examine grain size and phase transformation boundaries of ceramics, metallurgical reactions in braze and weld joints and critical dimension measurements and materials research in microelectronic components. Application accepted by Commissioner of Customs: March 31, 2008.

Docket Number: 08-013. Applicant: National Institutes of Health, 18 Library Drive, MSC 5430, Bethesda, MD 20892. Instrument: Electron Microscope, Model Tecnai G2 20 Twin. Manufacturer: FEI Company, Netherlands. Intended Use: The instrument is intended to be used to study various areas of molecular cell biology, including the mechanisms of intracellular protein trafficking, the biogenesis and dynamics of intracellular organelles, the developmental control of the cell cycle, iron metabolism in humans and the genetic response to environmental stress. Application accepted by Commissioner of Customs: April 7, 2008.

Dated: April 16, 2008.
Faye Robinson,
Director, Statutory Import Programs Staff.

[FR Doc. E8-8569 Filed 4-18-08; 8:45 am]

BILLING CODE: 3510-DS-S